Title 3—

The President

Proclamation 9055 of November 5, 2013

Veterans Day, 2013

By the President of the United States of America

A Proclamation

On Veterans Day, America pauses to honor every service member who has ever worn one of our Nation's uniforms. Each time our country has come under attack, they have risen in her defense. Each time our freedoms have come under assault, they have responded with resolve. Through the generations, their courage and sacrifice have allowed our Republic to flourish. And today, a Nation acknowledges its profound debt of gratitude to the patriots who have kept it whole.

As we pay tribute to our veterans, we are mindful that no ceremony or parade can fully repay that debt. We remember that our obligations endure long after the battle ends, and we make it our mission to give them the respect and care they have earned. When America's veterans return home, they continue to serve our country in new ways, bringing tremendous skills to their communities and to the workforce—leadership honed while guiding platoons through unbelievable danger, the talent to master cutting-edge technologies, the ability to adapt to unpredictable situations. These men and women should have the chance to power our economic engine, both because their talents demand it and because no one who fights for our country should ever have to fight for a job.

This year, in marking the 60th anniversary of the Korean War Armistice, we resolved that in the United States of America, no war should be forgotten, and no veteran should be overlooked. Let us always remember our wounded, our missing, our fallen, and their families. And as we continue our responsible drawdown from the war in Afghanistan, let us welcome our returning heroes with the support and opportunities they deserve.

Under the most demanding of circumstances and in the most dangerous corners of the earth, America's veterans have served with distinction. With courage, self-sacrifice, and devotion to our Nation and to one another, they represent the American character at its best. On Veterans Day and every day, we celebrate their immeasurable contributions, draw inspiration from their example, and renew our commitment to showing them the fullest support of a grateful Nation.

With respect for and in recognition of the contributions our service members have made to the cause of peace and freedom around the world, the Congress has provided (5 U.S.C. 6103(a)) that November 11 of each year shall be set aside as a legal public holiday to honor our Nation's veterans.

NOW, THEREFORE, I, BARACK OBAMA, President of the United States of America, do hereby proclaim November 11, 2013, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this fifth day of November, in the year of our Lord two thousand thirteen, and of the Independence of the United States of America the two hundred and thirty-eighth.

[FR Doc. 2013-27093

Filed 11-7-13; 11:15 am]

Billing code 3295-F4